DEPARTMENT OF DEFENSE

GENERAL SERVICES ADMINISTRATION

NATIONAL AERONAUTICS AND SPACE ADMINISTRATION

48 CFR Chapter 1

Federal Acquisition Regulation; Small Entity Compliance Guide

AGENCIES: Department of Defense (DoD), General Services Administration (GSA), and National Aeronautics and Space Administration (NASA).

ACTION: Small Entity Compliance Guide.

SUMMARY: This document is issued under the joint authority of the Secretary of Defense, the Administrator of General Services and the Administrator for the National Aeronautics and Space Administration. This Small Entity Compliance Guide has been prepared in accordance with Section 212 of the Small Business Regulatory Enforcement Fairness Act of 1996 (Public Law 104-121). It consists of a summary of rule appearing in Federal Acquisition Circular (FAC) 2001-05 which amends the FAR. A regulatory flexibility analysis has been prepared in accordance with 5 U.S.C. 603. Interested parties may obtain further information regarding this rule by referring to FAC 2001-05 which precedes this document. This document is also available via the Internet at http://www.arnet.gov/far.

FOR FURTHER INFORMATION CONTACT: Laurie Duarte, FAR Secretariat, (202) 501-4225. For clarification of content, contact Ms. Linda Nelson, Procurement Analyst, General Services Administration, at (202) 501-1900.

Executive Order 13202, Preservation of Open Competition and Government Neutrality Towards Government Contractors' Labor Relations on Federal and Federally Funded Construction Projects (FAR Case 2001-016 (Stay))

This action stays FAR 36.202(d), which was added by the May 16, 2001, interim rule published as Item II of Federal Acquisition Circular 97-26 to implement Executive Order 13202, as amended.

Dated: March 1, 2002.
Al Matera,
Director, Acquisition Policy Division.

[FR Doc. 02-5386 Filed 3-6-02; 8:45 am]

BILLING CODE 6820-EP-P